NATIONAL SCIENCE FOUNDATION

U.S. Chief Financial Officer Council; Grants Policy Committee

ACTION: Notice of open stakeholder Webcast meeting.

SUMMARY: This notice announces the second of a series of open stakeholder Webcast meetings sponsored by the Grants Policy Committee (GPC) of the U.S. Chief Financial Officer Council.

DATES: The GPC will hold a Webcast meeting on Thursday, March 8, 2007, 1:30 p.m. to 3 p.m., Eastern Standard Time. The Webcast will be broadcast live.

ADDRESSES: The GPC March 8 Webcast meeting will be hosted by and broadcasted from the U.S. Department of Agriculture (USDA). The meeting will be held in the USDA Jefferson Auditorium at 1400 Independence Ave., SW., Washington, DC 20250. Meeting registration is not required, but you must arrive early and bring a photo I.D. to ensure adequate time for USDA security to clear you to enter the building. The GPC encourages organizations to attend and to invite their staffs and members to attend the meeting in person or via Webcast.

Overview: This meeting will serve as an opportunity for the public to view and discuss the six proposed government-wide post-award forms for recipients of federal financial assistance: (1) Federal Financial Report; (2) Performance Progress Report; (3) Performance Progress Report for Research Programs; (4) Tangible Personal Property; (5) Real Property Status; (6) and Inventions Report. Prior to the March 8 Webcast meeting, these proposed forms will be posted on the Federal Grants Streamlining Initiative (FGSI) Web site at http://www.grant.gov/aboutgrants/grants_news.jsp.

For Further Information About the GPC Webcast: Questions on the webcast should be directed to Charisse Carney-Nunes, National Science Foundation, 4201 Wilson Boulevard, Arlington, VA 22230; e-mail, GPCWebcast@nsf.gov. Information and materials that pertain to this Webcast meeting, including the call-in telephone number, the agenda, and the six proposed forms will be posted on the FGSI Web site at http://www.grant.gov/aboutgrants/grants_news.jsp under the March 8 Meeting Materials. The call-in telephone number may be used only DURING the live Webcast. The link to view the Webcast will be posted on this site, along with Webcast Instructions. Approximately one week following the Webcast meeting, the GPC will post a transcript for the hearing-impaired. Also, after the meeting, a link to its recording will be posted on the FGSI Web site for at least 90 days.

Comments Submission Information: You may submit comments during the Webcast meeting via telephone or e-mail. The e-mail address for comments both during and after the Webcast is GPCWebcast@nsf.gov. You may submit comments for ten working days following the March 8 meeting. All Webcast comments pertaining to the six proposed forms will be retained for consideration during the process of finalizing the forms prior to submitting them to the Office of Management and Budget (OMB) for formal approval.

Because the federal grant making agencies may use these forms to collet information from ten or more recipients of federal financial assistance (awardees), OMB approval/clearance must be obtained prior to their being used as information collection instruments (Paperwork Reduction Act (PRA), 44 U.S.C. 3501-3520).

SUPPLEMENTARY INFORMATION: Purpose of the Webcast meeting: The purpose of the meeting is to continue the GPC's efforts to update and inform grant stakeholders about the GPC's past and ongoing activities related to the FGSI in accordance with Public Law (Pub. L.) 106-107.

Specifically, the March 8 webcast meeting will serve as an opportunity to solicit feedback and clarify any interested stakeholders' issues or concerns regarding the six proposed government-wide post-award forms.

Meeting structure and agenda: The March 8 Webcast meeting will have the following structure and agenda:

(1) Welcome by the host agency, USDA;

(2) Introduction and update by the Chair of the GPC;

(3) Update and explanation of forms from the post-award work group; and

(4) Participants' discussion, questions and comments.

As a result of stakeholder input received from the GPC's first webcast on October 25, 2006, the GPC has invited stakeholder organization representatives to present comments and questions relating to the post-award forms. Additionally, 60-75 minutes are scheduled for general participant input. Finally, please note that predecisional, internal governmental, and other nonpublic information cannot be discussed.

Background: Background about the FGSI is set forth in the Federal Register published on September 13, 2006 (71 FR 54098). The GPC post-award work group is responsible for streamlining policies and practices that pertain to federal monitoring of awardees and awardee performance, required reporting, and payments. The six forms to be discussed during the GPC's March 8 Webcast meeting are post-award work group products. These forms were developed to simplify reporting requirements; standardize, consolidate, and strengthen grant reporting; and improve the overall delivery of services to awardees.

Dated: February 9, 2007.
Joanna Rom,
Acting Chair, Grants Policy Committee of the U.S. Chief Financial Officer Council.

[FR Doc. 07-674 Filed 2-13-07; 8:45 am]

BILLING CODE 7555-01-M